FEDERAL COMMUNICATIONS COMMISSION

47 CFR Part 73

[DA 10-233, MB Docket No. 08-228, RM-11481]

FM Table of Allotments, Port Angeles, Washington

AGENCY: Federal Communications Commission.

ACTION: Final rule.

SUMMARY: The Audio Division grants a rulemaking petition filed by Jodesha Broadcasting, Inc., the licensee of Station KANY(FM), Ocean Shores, Washington, and the permittee of Station KSWW(FM), Montesano, Washington, to substitute FM Channel 271A for vacant Channel 229A at Port Angeles, Washington.

DATES: Effective March 22, 2010.

ADDRESSES: Federal Communications Commission, 445 12th Street, SW., Washington, DC 20554.

FOR FURTHER INFORMATION CONTACT: Andrew J. Rhodes, Media Bureau, (202) 418-2180.

SUPPLEMENTARY INFORMATION: This is a summary of the Commission's Report and Order, MB Docket No. 08-228, adopted February 3, 2010, and released February 5, 2010. The full text of this Commission document is available for inspection and copying during normal business hours in the FCC Reference Information Center (Room CY-A257), 445 12th Street, SW., Washington, DC. The complete text of this decision may also be purchased from the Commission's copy contractor, Best Copy and Printing, Inc., 445 12th Street, SW., Room CY-B402, Washington, DC 20554, 800-378-3160 or via the company's Web site, <http://www.bcpiweb.com>.

The Notice of Proposed Rule Making stated that Jodesha Broadcasting's rulemaking petition was filed as part of a hybrid application and rulemaking proposal involving two minor change applications. See 73 FR 75631, published December 12, 2008. In the first application (File No. BPH-20080710AJA), Jodesha proposes the upgrade of Channel 229C3 to Channel 229C0 at Ocean Shores, the reallotment of Channel 229C0 to Montesano, Washington, and the associated modification of the Station KANY(FM) license. In the second application (File No. BPH-20080710AJE), Jodesha proposes the downgrade of Channel 271C2 to Channel 271C3 at Montesano, the reallotment of Channel 271C3 to Ocean Shores, and the modification of the Station KSWW(FM) construction permit, accordingly.

The Report and Order states that the channel substitution at Port Angeles serves the public interest because it will accommodate the grant of the hybrid applications, enabling Station KANY(FM) to provide a gain in its population served. The Report and Order also grants the two applications filed by Jodesha. The reference coordinates for Channel 271A at Port Angeles are 48-06-54 NL and 123-26-36 WL.

This document does not contain new or modified information collection requirements subject to the Paperwork Reduction Act of 1995, Public Law 104-13. In addition, therefore, it does not contain any information collection burden ”for small business concerns with fewer than 25 employees,” pursuant to the Small Business Paperwork Relief Act of 2002, Public Law 107-198, see 44 U.S.C. 3506(c)(4).

The Commission will send a copy of this Report and Order in a report to be sent to Congress and the Government Accountability Office pursuant to the Congressional Review Act, see 5 U.S.C. 801(a)(1)(A).

Provisions of the Regulatory Flexibility Act of 1980 do not apply to this proceeding.

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

Section 73.202 [Amended]

2. Section 73.202(b), the Table of FM Allotments under Washington, is amended by removing Channel 229A at Port Angeles and adding Channel 271A at Port Angeles.

Federal Communications Commission.
John A. Karousos,
Assistant Chief, Audio Division, Media Bureau.

[FR Doc. 2010-6017 Filed 3-18-10; 8:45 am]

BILLING CODE 6712-01-S